DEPARTMENT OF COMMERCE

National Oceanic and Atmospheric Administration

50 CFR Part 660

[Docket No. 231115-0269]

RIN 0648-BM29

Fisheries Off West Coast States; West Coast Groundfish Electronic Monitoring Program; Service Provider Revisions

AGENCY: National Marine Fisheries Service (NMFS), National Oceanic and Atmospheric Administration (NOAA), Commerce.

ACTION: Final rule.

SUMMARY: This final rule revises regulations governing the use of electronic monitoring (EM) in the Pacific Coast groundfish trawl fishery. This rulemaking modifies deadlines in Federal regulations for EM service providers to process EM data and submit vessel logbooks to NMFS. This action is intended to support the overarching goal of continually monitoring the Groundfish Trawl Rationalization Program for compliance with existing regulations in an economical and flexible manner while meeting the goals and objectives of the Magnuson-Stevens Fishery Conservation and Management Act (Magnuson-Stevens Act; MSA), the Pacific Coast Groundfish Fishery Management Plan, and other applicable laws. This rulemaking also makes minor administrative changes to EM and other groundfish regulations to clarify the regulations, correct terminology, correct web addresses, and remove obsolete administrative requirements. Some aspects of this action remove duplicative requirements for mail notifications or mail-based record-keeping and reporting, which are also undertaken electronically. During the COVID-19 pandemic, many administrative notifications and reporting requirements were moved to electronic methods; this action revises the regulations to be consistent with current practice.

DATES: Effective December 22, 2023.

ADDRESSES: This rule is accessible via the Office of the Federal Register website at https://www.federalregister.gov/. Background information and analytical documents (Analysis) are available at the NMFS West Coast Region website at https://www.fisheries.noaa.gov/region/west-coast and at the Pacific Fishery Management Council's website at https://www.pcouncil.org.

Electronic Access

This final rule is accessible at the Office of the Federal Register website at https://www.federalregister.gov. Background information and analytical documents (Analysis) are available at the NMFS West Coast Region website at: https://www.fisheries.noaa.gov/region/west-coast-groundfish.html and at the Pacific Fishery Management Council's website at https://www.pcouncil.org.

FOR FURTHER INFORMATION CONTACT: Melissa Hooper, phone: 206-526-4357, or email: melissa.hooper@noaa.gov.

SUPPLEMENTARY INFORMATION:

Authority for Action

NMFS and the Pacific Fishery Management Council (Council) manage the groundfish fisheries in the exclusive economic zone seaward of California, Oregon, and Washington under the Pacific Coast Groundfish Fishery Management Plan (FMP). The Council prepared the FMP under the authority of the MSA (16 U.S.C. 1801 et seq.). Regulations governing U.S. fisheries and implementing the FMP appear at 50 CFR part 660.

Background

This action revises regulations governing the Pacific Coast groundfish trawl fishery. The groundfish trawl fishery is managed under a catch share program called the Trawl Rationalization Program, which was implemented through Amendment 20 to the FMP in January 2011. The Program consists of an individual fishing quota (IFQ) program for the shorebased trawl fleet (including whiting and non-whiting sectors), and cooperatives for the at-sea mothership (MS) and catcher/processor (C/P) trawl fleets (whiting only). As part of the Program, Amendment 20 implemented requirements for 100 percent monitoring at-sea and dockside in order to ensure accountability for all landings and discards of allocated species. Catcher processors and motherships are required to carry two observers at all times, depending on the length of the vessel, and catcher vessels are required to carry one observer, including while in port until all fish are offloaded. In addition, first receivers, which are processors that are licensed to receive IFQ landings, are required to have catch monitors to monitor 100 percent of IFQ offloads. Vessel owners and first receivers are responsible for obtaining and funding catch share observers and catch monitors as a necessary condition of their participation in the program.

Amendment 20 also authorized the use of EM as an alternative to human observers to meet the at-sea monitoring requirement, but deferred to a future regulatory amendment to specify the details of any EM program. EM uses cameras and associated sensors to passively record and monitor fishing activities. The video can be reviewed by an analyst onshore at a later time to collect catch and effort information. EM has the potential to reduce monitoring costs because it does not require deploying a person on the vessel and the logistical and travel expenses that generates. Note that the proposed rule for this action (88 FR 48180; July 26, 2023) stated that Amendment 18 to the FMP authorized the use of EM in the groundfish fishery. While Amendment 18 did authorize the use of EM in general in the fishery, Amendment 20 created the requirement for 100 percent coverage in the trawl fishery and authorized the use of EM to meet that specific requirement, which is being modified by this final rule.

The Council developed and implemented an EM program for shorebased whiting, bottom trawl, and fixed gear vessels, and at-sea whiting catcher vessels in the Trawl Program through two regulatory amendments in 2019 (84 FR 31146; June 28, 2019) and 2022 (87 FR 59705; October 3, 2022). Two additional rulemakings in 2020 (85 FR 74613; November 23, 2020) and 2021 (86 FR 55525; October 6, 2021) delayed the beginning of the EM program to provide time to refine its requirements and prepare for implementation. Vessels will be able to use EM under the regulatory program in place of observers beginning January 1, 2024. A more detailed discussion of the development of the EM program, including the use of exempted fishing permits (EFPs) in an experimental fishery, is described in the proposed rule for this action and in the prior regulatory amendments and is not repeated here.

In preparation for the January 1 start of the program, the Council developed modifications to reporting deadlines and clarifications to the regulations for EM service providers to improve the efficiency and cost effectiveness of the program, which were published in a proposed rule July 26, 2023 (88 FR 48180). Further details on the development of this action can be found in the proposed rule and are not repeated here. Public comments were accepted on the proposed rule from July 26 through August 25, 2023. No public comments were received.

Through this final rule, NMFS is approving and implementing the Council's proposed revisions to the EM regulations. NMFS has determined that the regulations are consistent with the goals and objectives of the Pacific Coast Groundfish FMP and the requirements of the MSA and other applicable law. This determination is based on NMFS' review of the administrative record, including the Council's record. After considering the required statutory factors and the goals and objectives of the Pacific Coast Groundfish FMP, NMFS has determined that the Council's recommended measures further the EM program's goals and objectives to provide for an alternative method of meeting the monitoring requirements of the Trawl Rationalization Program that reduces the costs and operational burden of these requirements, while ensuring the best scientific information available for conservation and management. Through this rule, NMFS is also approving some minor clarifications to other groundfish regulations.

Final Measures

This section summarizes the measures contained in this final rule. To implement these measures NMFS revises the regulations in §§ 660.18, 660.25, 660.60, 660.140, 660.150, 660.160, and 660.603 to improve the effectiveness of the groundfish EM program and to correct and clarify other groundfish regulations.

1. EM Program Revisions

Discard Logbook Processing Deadline

Through this final rule, NMFS is extending the deadline for EM service providers to process and submit logbook data to NMFS from 2 business days to 7 business days (§ 660.603(m)(5)). In the EM program, vessel operators will record discards in their logbooks that will be used to debit discards of IFQ species from their vessel accounts. Vessel operators are required to submit copies of their logbooks to their contracted EM service provider within 24 hours of the end of an EM trip. EM service providers must then enter, quality check, and submit data from the logbooks to NMFS. NMFS uses the logbook data to initially debit the vessel's account for discards of IFQ species. Once video from the trip is reviewed, the logbook discard estimates may be replaced in the vessel's account with an EM discard estimate if the difference between the two estimates falls outside established performance standards.

The 2-day deadline implemented in the original 2019 EM rule was based on logbook processing timelines achieved in the experimental EM fishery, which has been ongoing since 2015. Since that time, however, increased participation in the EFP has increased the volume of logbooks that must be processed and contributed to an increase in processing times. During the busiest times of the year, the EFP's video review provider, the Pacific States Marine Fisheries Commission (PSMFC), has reported that it can take up to 7 days after a trip to process the logbook. As EM participation levels are expected to remain constant or even grow in 2024 and beyond, the Council became concerned that the 2-day processing deadline was unrealistic for EM service providers to meet during the busiest times of the year. An EM service provider could hire additional staff to ensure it could handle the increased workload, but that would likely increase the costs of the EM program and could make it a less cost-effective alternative to observers, inconsistent with the goals of the EM program as stated in the original EM regulatory amendment (84 FR 31146). Therefore, the Council recommended, and NMFS approves, extending the deadline for EM service providers to process logbooks after an EM trip, to provide operational flexibility to EM service providers and to improve the cost effectiveness of the EM program, consistent with the goals of the EM program and the Pacific Coast Groundfish FMP. Extending the logbook processing deadline also furthers the objectives of the EM program to reduce the logistical burden and adverse economic impacts of the 100 percent at-sea monitoring requirements on these vessels and their communities, consistent with National Standard 8 of the MSA.

Extending the logbook processing deadline would delay the time for vessel accounts to be updated with initial discard estimates from 3 days after a trip (1 day for the EM provider to receive the logbook and 2 days to process it) to 8 days after a trip (1 day to receive the logbook and 7 days to process it), which could increase the risk of a vessel going into deficit if it continues fishing without accurate balances for IFQ quota pounds. However, vessel operators would retain copies of their logbooks that they could use to monitor their IFQ balances until accounts are updated with the logbook data. A processing timeline of approximately 1 week is also consistent with the timeline that human observer discard data posts to vessel accounts. Therefore, extending the logbook processing deadline maintains sufficient timeliness of information on discards of IFQ species for management decisions, while minimizing the costs of data collection requirements, consistent with National Standards 2 and 7 of the MSA.

EM Data Processing Deadlines

Through this final rule, NMFS is extending the deadline for EM service providers to process EM data and submit reports to vessel operators and NMFS from 3 weeks to 60 days after receipt of the hard drive (§§ 660.603(m)(4)-(5)). Following an EM trip, vessel operators are required to submit the hard drive containing the video imagery and sensor data to their contracted EM service provider for processing (generally within 72 hours of trip end). The EM service provider is responsible for reviewing and quality checking the imagery and sensor data and reporting its findings to NMFS. NMFS uses the summary data reported by the EM service provider to validate and, where appropriate, replace logbook discard estimates in vessel accounts, and to monitor compliance by vessel operators with the regulations. The EM service provider also provides feedback to the vessel operator on performance of the EM system and the crew from the trip based on review of the video.

As with other EM program requirements, the 3-week deadline for EM data processing and reporting was based on the data processing timelines observed in the experimental EM fishery. As participation levels have increased, processing times have increased and raised concerns that EM service providers may not be able to meet the original 3-week deadline in regulation during peak fishing seasons. EM service providers could hire additional staff to ensure that they could meet the 3-week processing deadline during peak fishing times, but this would likely increase the cost of EM and could reduce the cost effectiveness of the program as an alternative to human observers. Maintaining a year-round staff level that could meet the 3-week deadline at peak fishing times would also result in an overcapacity of reviewers at slower times of year. On the other hand, it is not a position that can easily be filled on a temporary or seasonal basis. Video reviewers require specialized training and experience in species identification, fishing operations, and regulations to interpret what they see on video and many EM service providers try to recruit former fisheries observers to ensure the best data quality. In addition, PSMFC noted during development of this action that they already struggle to recruit qualified reviewers in the current competitive employment market and seasonal positions would be even less appealing to job seekers.

In light of these concerns, the Council considered two alternate deadlines for EM data processing of 60 days and 90 days, based on timelines observed in the experimental fishery since 2015 and feedback from EM service providers. In general, extending the deadline for processing and reporting of EM data would delay the availability of this information to NMFS and vessel operators. NMFS relies on reports from EM service providers to validate logbook-reported discards that were used to debit vessel accounts in the interim and ensure accurate IFQ account balances. Vessel operators in turn use updated vessel account balances to determine if they have sufficient quota pounds to cover additional fishing trips. Vessel operators are responsible for ensuring they have sufficient quota to cover any landings and discards of IFQ species and may not fish if their account is in deficit. Vessel operators may purchase additional quota to cover any deficit, including for a brief period after the end of the fishing year, and resume fishing when their account is in good standing, or carryover a deficit (up to 10 percent) to the following year if they cease fishing. Therefore, timely updates of vessel account balances are important for ensuring that fishermen have the most accurate information for their fishing operations and to prevent deficits. Less timely updates to vessel accounts could mean more fishing trips taken on provisional information and increased risk of unexpected deficits.

On an individual level, vessel owners could mitigate their risk of incurring a deficit by keeping a larger balance for IFQ species that they are concerned about, or by taking more time between trips. A vessel owner could weigh the trade-off between the likelihood of a deficit, the cost of carrying a larger balance (in terms of the cost of quota that must be purchased or lost revenue from a quota sale forgone), the lost revenue from postponing a trip to wait for EM data to be finalized, and determine the best option for their own business. A vessel owner could also reduce the risk of a surprise deficit by ensuring their captain's logbook discard estimates meet the performance standards and will not be replaced by EM data. A vessel owner could also choose not to participate in the EM program and instead opt for a human observer if they want timelier final discard information. Thus, even with an extended deadline, vessel operators have a suite of options to maximize fishing activity while avoiding exceeding available quota.

NMFS and the Council also rely on accurate vessel account balances to control fishing mortality in the trawl fishery to prevent overages of the overall trawl sector allocations and Annual Catch Limits (ACLs). However, extending the EM data processing deadline is unlikely to increase the risk of an overage for most species because most groundfish IFQ species are under-attained. The species at greatest risk would be those with small allocations or high attainment, such as yelloweye rockfish or sablefish north of 40°10′N latitude, respectively. Vessels try to avoid catching species with small allocations altogether because of their correspondingly small individual allocations. Even if one vessel were to exceed its individual allocation, it is unlikely many other vessels would and so uncaught pounds of the species could be found elsewhere in the trawl fishery or other sectors to cover the overage without exceeding the ACL. In addition, since the implementation of total accountability for all discards in the Trawl Program, the trawl fishery has become highly selective, with discards accounting for a small portion of total catch. Therefore, increased variability in discard estimates from EM vessels, which is an even smaller portion of total trawl discards, would be unlikely to pose a problem at the sector or ACL level.

NMFS and vessel operators also use the feedback from the video review to ensure that EM systems are meeting performance standards and that vessel crews are complying with catch handling instructions, EM system care responsibilities, and other regulations. While hard drives are waiting to be reviewed, EM vessels are still taking new fishing trips and a delay in review of the EM data could mean that compliance or performance issues are not identified and corrected in a timely manner, leading to reduced data quality. However, the EM program regulations include a number of safeguards to reduce the likelihood that an EM system malfunction or compliance issue will occur or, if it does occur, go undetected to the extent that it would substantively impact overall data quality.

For example, most vessels in the EM program participated in the experimental EM fishery and their crews are experienced in the catch handling, EM system care responsibilities, and other program requirements. In addition, all captains are required to attend an orientation session hosted by NMFS on EM program requirements and must undergo a briefing with their EM provider's staff on the EM system and proper catch handling onboard their vessel before obtaining their EM Authorization. Vessel operators are also required to run a test before each trip to ensure that the EM system is working properly and, if an issue affecting EM data collection (referred to as a “critical” malfunction) is identified, may not fish until it is resolved. These measures reduce the likelihood of a critical malfunction, crew error, or other issue occurring that will impact data collection and affect discard estimates.

There are other measures in place to disincentivize intentional tampering with the EM system to hide illegal discard events or other compliance issues. If a critical malfunction occurs at sea, such as the system losing power or a critical camera view going out, the vessel must stop fishing and attempt to resolve the issue. If they cannot resolve the issue, they must end their trip and return to port. This creates a strong incentive to maintain the EM system in good working order and against intentional tampering, even if there is a delay in detection from delayed video processing.

Finally, violation of any of the EM program's requirements, intentional or otherwise, could result in monetary fines through enforcement action and even expulsion from the EM program, whether detected 1 month or 3 months after the trip. In this way, a participant would be unlikely to jeopardize the cost savings and other benefits they derive from using EM by not complying with the EM program requirements even under an extended EM data processing deadline.

The Council weighed all these trade-offs between data timeliness and cost, and determined that a 60-day deadline for processing and reporting of EM data was the right balance between the need for timely data for management and cost effectiveness of EM. The Council considered but rejected a 90-day deadline, because it would be too long of a delay in availability of data and in updating vessel accounts. NMFS approves the Council's recommendation for extending the deadline for EM service providers to process EM data after an EM trip to provide operational flexibility to EM service providers and to improve the cost effectiveness of the EM program, consistent with the goals of the EM program, the Pacific Coast Groundfish FMP, and the MSA. Extending the EM data processing deadline also furthers the objectives of the EM program to reduce the logistical burden and adverse economic impacts of the 100-percent at-sea monitoring requirements on these vessels and their communities, consistent with National Standard 8 of the MSA. As discussed above, extending the EM processing deadline maintains sufficient timeliness of information on discards of IFQ species for management decisions, while minimizing the costs of data collection requirements, consistent with National Standards 2 and 7 of the MSA.

Revise EM Discard Data Method Language

NMFS is clarifying and simplifying the current EM regulations by removing the paragraph at § 660.603(m)(1) that reads: “The EM service provider must process vessels' EM data and logbooks according to a prescribed coverage level or sampling scheme, as specified by NMFS in consultation with the Council, and determine an estimate of discards for each trip using standardized estimation methods specified by NMFS. NMFS will maintain manuals for EM and logbook data processing protocols on its website.” This information is already stated in the introductory paragraph at § 660.603(m) and at § 660.603(m)(5). The Council recommended a change to the language at § 660.603(m)(1) because it was concerned that the existing language implies a requirement for all EM service providers to process EM data using the same methods and methods prescribed by NMFS, which was not the intent of the EM program. Rather, the regulations establish the responsibilities of the EM service provider (to process the EM data and report findings to NMFS) and the standards they must meet (the purpose of the EM program as defined § 660.600(b)), but leave flexibility for EM service providers to design different methods to conduct the data processing and reporting in the way that best suits their business. EM service providers must detail their methods in their permit application which allows NMFS to review them and ensure they meet the program standards. Paragraphs §§ 660.603(m) and 660.603(m)(5) accurately reflect this intent. Removing paragraph § 660.603(m)(1) prevents any confusion with the requirement and has no substantive effect on the operation of the EM program. Therefore, NMFS has approved this administrative change to improve the clarity and effectiveness of the EM regulations, consistent with the Pacific Coast Groundfish FMP and the MSA.

2. Administrative Revisions

This final rule makes some minor administrative, non-substantive revisions to the Pacific Coast groundfish fishery regulations to correct terminology, correct web addresses, and remove some obsolete administrative requirements. Pursuant to Secretarial authority under MSA section 305(d), this part of the action is necessary to carry out the Pacific Coast Groundfish FMP and implementing regulations at 50 CFR 660.

NMFS revised the regulations throughout part 660 to correct misspellings and update web addresses and terminology. In many places in the regulations governing the Pacific Coast groundfish fisheries, the term `cooperative' is abbreviated to `coop', rather than `co-op'. This final rule corrects the abbreviation throughout this Part. This final rule also corrects obsolete web addresses and outdated references to the NMFS `Northwest Region', which, as of 2013, is now the West Coast Region.

NMFS revised the regulations governing the limited entry trawl fishery at §§ 660.140, 660.150, and 660.160 to remove the requirement for NMFS to mail paper reminders to fishery participants to renew their quota share permits, vessel accounts, and first receiver site licenses. During the COVID-19 global pandemic, NMFS transitioned these reminders to an electronic format. This final rule revises the regulations to be consistent with current practice.

In this final rule, NMFS revised regulations §§ 660.18(d)(1), 660.140, 660.150, and 660.160 governing the issuance of various trawl fishery permits to remove the requirement for NMFS to issue an Initial Agency Determination (IAD) for both approvals and disapprovals of applications. The purpose of an IAD is to notify the applicant of the agency's decision, its rationale, and the applicant's appeal rights. Since an applicant has no reason to appeal an approval of their application, it is unnecessary to issue an IAD for a permit approval. Rather, the permit itself services as notification of the application approval. In addition, the permit decisions for which NMFS is revising the IAD requirement involve little agency discretion that would require explanation in an IAD. Unlike initial qualification decisions in which approval of an application may also involve calculation of an allocation that an approved applicant may wish to dispute, for the permit decisions addressed in this rule NMFS must issue a permit to any applicant that meets the eligibility criteria. Removing the requirement for NMFS to issue an IAD for approvals of these types of permits reduces paperwork for both NMFS and the applicants. IADs would still be issued for all permit denials.

Through this final rule, NMFS also revised the regulations at § 660.113(c)(4) and (d)(4) to remove the requirement for MS and C/P cooperatives to submit cease-fishing reports to NMFS at the end of their fishing seasons. Cease-fishing reports were used by NMFS to safely reapportion uncaught allocation between the MS and C/P sectors to be used by the sector still fishing without putting the other sector at risk of an overage. Amendment 21-4 to the FMP (42 FR 68799, December 17, 2019) removed the allocations of non-whiting groundfish species made as part of Amendment 21 to the FMP (75 FR 60867, October 1, 2010) and instead created set-asides for these stocks in the at-sea sectors (the MS and C/P cooperatives). Without non-whiting groundfish allocations, cease-fishing reports are obsolete and should have been removed with other reapportionment procedures by Amendment 21-4. This rule corrects that error.

Classification

NMFS is issuing this rule pursuant to section 304(b)(1)(A) and 305(d) of the Magnuson-Stevens Act, which provides specific authority and procedure for implementing this action. See 16 U.S.C. 1854(b)(1)(A), 1855(d). The majority of this rulemaking is promulgated pursuant to section 304(b)(1)(A); the Council recommended this action at its March 2023 meeting. This rulemaking also includes minor regulatory changes promulgated pursuant to section 305(d). This action is necessary to improve comprehensibility of the regulations by updating and revising outdated regulations.

The NMFS Assistant Administrator has determined this final rule is consistent with the FMP, other provisions of the Magnuson-Stevens Act, and other applicable law.

This final rule has been determined to be not significant for the purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule revises existing requirements for the collection of information approved under the Paperwork Reduction Act of 1995 (44 U.S.C. 3501 et seq.). The proposed rule would extend EM service provider submission deadlines for: (1) Vessel operator feedback: 60 days from the date of receipt of EM data for processing from the vessel operator; (2) EM summary and data compliance reports: 60 days from the date of receipt of EM data for processing from the vessel operator; and (3) Logbook data: submit logbook data to NMFS within 7 days of receipt from vessel operators.

Extending the submission deadlines is not expected to increase the public reporting burden for the information collection. The current collection of information requirements would continue to apply under the existing OMB Control Number 0648-0785: West Coast Region Groundfish Trawl Fishery Electronic Monitoring Program.

List of Subjects in 50 CFR Part 660

Fisheries, Fishing, and Indian Fisheries.

Dated: November 16, 2023.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq.; 16 U.S.C. 773 et seq.; and 16 U.S.C. 7001 et seq.

2. Amend part 660 by:

a. Removing the word “coop” and adding in its place the word “co-op” wherever it appears; and

b. Removing the word “Coop” and adding in its place the word “Co-op” wherever it appears.

3. Amend § 660.18 by revising paragraph (d)(1) to read as follows:

§ 660.18 Observer and catch monitor provider permits and endorsements.

* * * * *

(d) * * *

(1) Initial administrative determination. For all complete applications, NMFS will issue an IAD if it disapproves the application. An approved application will result in issuance of the permit. If disapproved, the IAD will provide the reasons for this determination. If the applicant does not appeal the IAD within 30 calendar days, the IAD becomes the final decision of the Regional Administrator acting on behalf of the Secretary of Commerce.

* * * * *

4. Amend § 660.25 by:

a. Revising paragraph (b)(3)(iv)(C)(2) and (b)(4)(ix); and

b. Removing the phrase “National Marine Fisheries Service, Northwest Region” and adding in its place the phrase “NMFS West Coast Region” in paragraph (g)(3)(ii).

The revisions read as follows:

§ 660.25 Permits.

* * * * *

(b) * * *

(3) * * *

(iv) * * *

(C) * * *

(2) Application and issuance process for an ownership limitation exemption. The SFD will make the qualifying criteria and application instructions available online at https://www.fisheries.noaa.gov/region/west-coast. A vessel owner who believes that they may qualify for the ownership limitation exemption must submit evidence with their application showing how their vessel has met the qualifying criteria described at paragraph (b)(3)(iv)(C)(1) of this section. The vessel owner must also submit a Sablefish Permit Ownership Limitation Exemption Identification of Ownership Interest form that includes disclosure of percentage of ownership in the vessel and disclosure of individual shareholders in any entity. Paragraph (i) of this section sets out the relevant evidentiary standards and burden of proof. Applications may be submitted at any time to NMFS at: NMFS West Coast Region, Sustainable Fisheries Division, ATTN: Fisheries Permit Office—Sablefish Ownership Limitation Exemption, 7600 Sand Point Way NE, Seattle, WA 98115. After receipt of a complete application, the SFD will issue an IAD in writing to the applicant determining whether the applicant qualifies for the exemption. If an applicant chooses to file an appeal of the IAD, the applicant must follow the appeals process outlined at paragraph (g) of this section and, for the timing of the appeals, at paragraph (g)(4)(ii) of this section.

* * * * *

(4) * * *

(ix) Application forms available. Application forms for a change in vessel registration, permit owner, or vessel owner are available at: NMFS West Coast Region, Sustainable Fisheries Division, ATTN: Fisheries Permit Office, 7600 Sand Point Way NE, Seattle, WA 98115; or https://www.fisheries.noaa.gov/region/west-coast. Contents of the application, and required supporting documentation, are also specified in the application form. Only complete applications will be processed.

* * * * *

5. Amend § 660.60 by revising paragraph (d)(2) to read as follows:

§ 660.60 Specifications and management measures.

* * * * *

(d) * * *

(2) Automatic actions are effective when actual notice is sent by NMFS identifying the effective time and date. Actual notice to fishers and processors will be by email, internet (https://www.fisheries.noaa.gov/region/west-coast), phone, letter, or press release. Allocation reapportionments will be followed by publication in the Federal Register, in which public comment will be sought for a reasonable period of time thereafter.

* * * * *

§ 660.113 [Amended]

6. Amend § 660.113 by removing and reserving paragraphs (c)(4) and (d)(4).

7. Amend § 660.140 by:

a. Revising paragraphs (d)(2)(iii)(A) and (d)(3)(i)(B);

b. Removing “http://www.nwr.noaa.gov/Groundfish-Halibut/Groundfish-Permits/index.cfm” and adding “https://www.fisheries.noaa.gov/region/west-coast” in its place in paragraph (d)(8)(v)(B);

c. Removing the phrase “NMFS, Northwest Region” and adding in its place the phrase “NMFS West Coast Region” in paragraph (d)(8)(vii)(B); and

d. Revising paragraphs (e)(2)(ii), (e)(3)(i)(B), (f)(3) introductory text, (f)(4), and (f)(6)(i).

The revisions read as follows:

§ 660.140 Shorebased IFQ Program.

* * * * *

(d) * * *

(2) * * *

(iii) * * *

(A) Initial administrative determination. For all complete applications, NMFS will issue an IAD if it disapproves the application. If approved, the QS permit serves as the IAD. If disapproved, the IAD will provide the reasons for this determination. If the applicant does not appeal the IAD within 30 calendar days, the IAD becomes the final decision of the Regional Administrator acting on behalf of the Secretary of Commerce.

* * * * *

(3) * * *

(i) * * *

(B) Notification to renew QS permits will be sent by SFD by September 15 each year to the QS permit owner's most recent email address in the SFD record. The QS permit owner shall provide SFD with notice of any email address change within 15 days of the change.

* * * * *

(e) * * *

(2) * * *

(ii) Registration. A vessel account must be registered with the NMFS SFD Permits Office. A vessel account may be established at any time during the year. An eligible vessel owner must submit a request in writing to NMFS to establish a vessel account. The request must include the vessel name; USCG vessel registration number (as given on USCG Form 1270) or state registration number, if no USCG documentation; all vessel owner names (as given on USCG Form 1270, or on state registration, as applicable); and business contact information, including: Address, phone number, fax number, and email. Requests for a vessel account must also include the following information: A complete economic data collection form as required under § 660.113(b), (c) and (d), and a complete Trawl Identification of Ownership Interest Form as required under paragraph (e)(4)(ii) of this section. The request for a vessel account will be considered incomplete until the required information is submitted. Any change specified at paragraph (e)(3)(ii) of this section, including a change in the legal name of the vessel owner(s), will require the new owner to register with NMFS for a vessel account. A participant must have access to a computer with internet access and must set up online access to their vessel account to participate. NMFS will provide vessel account owners instructions to set up online access to their vessel account. NMFS will use the vessel account to send messages to vessel owners in the Shorebased IFQ Program; it is important for vessel owners to monitor their online vessel account and all associated messages.

* * * * *

(3) * * *

(i) * * *

(B) Notification to renew vessel accounts will be issued by SFD by September 15 each year to the vessel account owner's most recent email address in the SFD record. The vessel account owner shall provide SFD with notice of any email address change within 15 days of the change.

* * * * *

(f) * * *

(3) Application process. Persons interested in being licensed as an IFQ first receiver for a specific physical location must submit a complete application for a first receiver site license through the web form submission available at https://www.noaa.gov/fisheries. First receiver site license holders may request a paper application by contacting SFD. NMFS will only consider complete applications for approval. A complete application includes:

* * * * *

(4) Initial administrative determination. For all complete applications, NMFS will issue an IAD if the application is disapproved. The IAD will provide the reasons for this determination. NMFS will not reissue a first receiver site license until the required cost recovery program fees, as specified at § 660.115, have been paid. The IAD, appeals, and final decision process for the cost recovery program is specified at § 660.115(d)(3)(ii).

* * * * *

(6) * * *

(i) First receiver site license applications will be accessible through an online application on or about February 1 each year.

* * * * *

8. Amend § 660.150 by:

a. Revising paragraph (d)(2).

b. Removing “http://www.nwr.noaa.gov/Groundfish-Halibut/Groundfish-Permits/index.cfm” adding “https://www.fisheries.noaa.gov/region/west-coast” in its place in paragraph (g)(6)(iv)(B); and

c. Removing the phrase “NMFS, Northwest Region” and adding in its place the phrase “NMFS West Coast Region” in paragraph (g)(6)(vi)(B).

The revision reads as follows:

§ 660.150 Mothership (MS) Co-op Program.

* * * * *

(d) * * *

(2) Initial administrative determination. For all complete applications, NMFS will issue an IAD if the application is disapproved. An approved application will result in issuance of the permit. If disapproved, the IAD will provide the reasons for this determination. The IAD for a MS co-op permit follows the same requirement as specified for limited entry permits at § 660.25(g)(4)(ii); if the applicant does not appeal the IAD within the 30 calendar days, the IAD becomes the final decision of the Regional Administrator acting on behalf of the Secretary of Commerce.

* * * * *

9. Amend § 660.160 by:

a. Removing “NMFS NWR” and adding “NMFS WCR” in its place in paragraph (d)(1)(iii);

b. Removing “http://www.nwr.noaa.gov” and adding https://www.fisheries.noaa.gov/region/west-coast in its place in paragraph (d)(1)(iii); and

c. Revising paragraph (d)(2).

The revision reads as follows:

§ 660.160 Catcher/processor (C/P) Co-op Program.

* * * * *

(d) * * *

(2) Initial administrative determination. For all complete applications, NMFS will issue an IAD if the application is disapproved. An approved application will result in issuance of the permit. If disapproved, the IAD will provide the reasons for this determination. The IAD for a C/P co-op permit follows the same requirement as specified for limited entry permits at § 660.25(g)(4)(ii), if the applicant does not appeal the IAD within the 30 calendar days, the IAD becomes the final decision of the Regional Administrator acting on behalf of the Secretary of Commerce.

* * * * *

10. Amend § 660.603 by removing and reserving paragraph (m)(1) and revising paragraphs (m)(4) introductory text and (m)(5).

The revisions read as follows:

§ 660.603 Electronic monitoring provider permits and responsibilities.

* * * * *

(m) * * *

(4) The EM service provider must communicate with vessel operators and NMFS to coordinate data service needs, resolve specific program issues, and provide feedback on program operations. No later than 60 days from the date of receipt of EM data for processing from the vessel operator, the EM service provider must provide feedback to vessel representatives, field services staff, and NMFS regarding:

* * * * *

(5) Submission of data and reports. On behalf of vessels with which it has a contract (see § 660.604(k)), the EM service provider must submit to NMFS logbook data, EM summary reports, including discard estimates, fishing activity information, and meta data (e.g., image quality, reviewer name), and incident reports of compliance issues according to a NMFS-accepted EM Service Plan, which is required under paragraph (b)(1)(vii) of this section, and as described in the EM Program Manual or other written and oral instructions provided by the EM program, such that the EM program achieves its purpose as defined at § 660.600(b). Logbook data must be submitted to NMFS within 7 business days of receipt from the vessel operator. EM summary reports must be submitted within 60 days of the date the EM data was received by the EM service provider from the vessel operator. If NMFS determines that the information does not meet these standards, NMFS may require the EM service provider to correct and resubmit the datasets and reports.

* * * * *

[FR Doc. 2023-25703 Filed 11-21-23; 8:45 am]

BILLING CODE 3510-22-P